DEPARTMENT OF HOUSING AND URBAN DEVELOPMENT

[Docket No. FR-5752-N-106]

30-Day Notice of Proposed Information Collection: Self-Help Homeownership Opportunity Program (SHOP)

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: January 14, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email at Colette Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

The Federal Register notice that solicited public comment on the information collection for a period of 60 days was published on October 10, 2014.

A. Overview of Information Collection

Title of Information Collection: Self-Help Homeownership Opportunity Program (SHOP).

OMB Approval Number: 2506-0157.

Type of Request: Extension of currently approved collection.

Form Number: HUD-424CB, HUD-2880, HUD-2993, HUD-2995, HUD-96011.

Description of the need for the information and proposed use: This is a proposed information collection for submission requirements under the SHOP Notice of Funding Availability (NOFA). HUD requires information in order to ensure the eligibility of SHOP applicants and the compliance of SHOP proposals, to rate and rank SHOP applications, and to select applicants for grant awards. Information is collected on an annual basis from each applicant that responds to the SHOP NOFA. The SHOP NOFA requires applicants to submit specific forms and narrative responses.

Respondents: National and regional non-profit self-help housing organizations (including consortia) that apply for funds in response to the SHOP NOFA.

Frequency of Submission: Annually in response to the issuance of a SHOP NOFA.

Estimation of the total number of hours needed to prepare the information collection including number of respondents, hours per response, frequency of response, and total hours of response for all respondents.

The estimates of the average hours needed to prepare the information collection are based on information provided by previous applicants. Actual hours will vary depending on the proposed scope of the applicant's program, the applicant's geographic service area and the number of affiliate organizations. The information burden is generally greater for national organizations with numerous affiliates.

Paperwork requirement | Number of respondents | Frequency | Hours per response | Total annual hours
SF-424 | 10 | 1 | 1 | 10
HUD-424CB | 10 | 1 | 10 | 10
HUD-424 CBW | 10 | 1 | 30 | 300
SF-LLL | 10 | 1 | .5 | 5
HUD-2880 | 10 | 1 | .5 | 5
HUD-2993 | 10 | 1 | .5 | 5
HUD-2995 | 10 | 1 | .5 | 5
HUD-96011 | 10 | 1 | .5 | 5
Applicant Eligibility | 10 | 1 | 10 | 100
SHOP Program Design and Scope of Work | 10 | 1 | 30 | 300
Rating Factor 1 | 10 | 1 | 25 | 250
Rating Factor 2 | 10 | 1 | 25 | 250
Rating Factor 3 | 10 | 1 | 55 | 550
Rating Factor 4 | 10 | 1 | 30 | 300
Rating Factor 5 | 10 | 1 | 25 | 250
Total Annual Hour Burden |  |  | 243.5 | 2435

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: December 9, 2014.
Colette Pollard,
Department Reports Management Officer, Office of the Chief Information Officer.

[FR Doc. 2014-29310 Filed 12-12-14; 8:45 am]

BILLING CODE 4210-67-P